DEPARTMENT OF THE INTERIOR

Fish and Wildlife Service

Preparation of an Environmental Impact Statement for the Joint Water Agency Natural Communities Conservation Plan (NCCP): Subregional Plan and Subarea Plans, San Diego, CA

AGENCY: Fish and Wildlife Service, Interior.

ACTION: Notice of intent.

SUMMARY: Pursuant to the National Environmental Policy Act (NEPA), the U.S. Fish and Wildlife Service (Service) advises the public that we intend to gather information necessary to prepare, in coordination with the Joint Water Agency (consisting of Helix Water District, Padre Dam Municipal Water District, Santa Fe Irrigation District, and the Sweetwater Authority) (hereafter collectively referred to as the Applicants), a joint Environmental Impact Statement/Environmental Impact Report (EIS/EIR) for a Natural Communities Conservation Program Subregional Plan (SRP) and three Subarea Plans (SAPs). The combination of the Joint Water Agency SRP and individual SAPs would serve as a multiple species Habitat Conservation Plan under Section 10(a)(1)(B) of the Federal Endangered Species Act, as amended in 1982 (ESA).

The Service provides this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: Public scoping meetings will be held on: Tuesday, February 8, 2005 from 4 p.m. to 7 p.m. and Wednesday, February 9, 2005 from 4 p.m. to 7 p.m. Written comments should be received on or before March 7, 2005.

ADDRESSES: The public meetings will be held at the following locations: (1) Tuesday, February 8, 2005, at the Sweetwater Authority Reynolds Desalination Facility, 3066 North Second Avenue, Chula Vista, CA 91912; and (2) Wednesday, February 9, 2005, at the Padre Dam Municipal Water District Board Room, 10887 Woodside Avenue, Santee, CA 92072.

Information, written comments, or questions related to the preparation of the EIS/EIR and NEPA process should be submitted to Erin Fernandez, Fish and Wildlife Biologist, Carlsbad Fish and Wildlife Office, 6010 Hidden Valley Road, Carlsbad, California 92009 (facsimile 760-431-5902).

FOR FURTHER INFORMATION CONTACT: Erin Fernandez at (760) 431-9440.

SUPPLEMENTARY INFORMATION:

Reasonable Accommodation

Persons needing reasonable accommodations in order to attend and participate in the public meeting should contact Erin Fernandez as soon as possible (see FOR FURTHER INFORMATION CONTACT). In order to allow sufficient time to process requests, please call no later than 1 week before the public meeting. Information regarding this proposed action is available in alternative formats upon request.

Background

Section 9 of the Federal ESA (16 U.S.C. 1531 et seq.) and Federal regulations prohibit the “take” of a fish or wildlife species listed as endangered or threatened. Under the ESA, the following activities are defined as take: harass, harm, pursue, hunt, shoot, wound, kill, trap, capture or collect listed animal species, or attempt to engage in such conduct (16 U.S.C. 1538). However, under section 10(a) of the ESA, we may issue permits to authorize “incidental take” of listed species. “Incidental take” is defined by the ESA as take that is incidental to, and not the purpose of, carrying out an otherwise lawful activity. Regulations governing permits for threatened species and endangered species, respectively, are at 50 CFR 17.32 and 50 CFR 17.22.

Take of listed plant species is not prohibited under the ESA and cannot be authorized under a section 10 permit. We propose to include plant species on the permit in recognition of the conservation benefits provided for them under the plan.

The purpose of the EIS/EIR is to analyze the impacts of the proposed implementation of the SRP and three SAPs. The Federal need for the SRP and three SAPs is to meet the criteria for incidental take authorization of species on the covered species list.

The proposed SRP would comprehensively address how participating water agencies will manage their lands to conserve natural habitats and species while continuing to provide their mandated water services to the public. The proposed SRP would serve as an “umbrella document” to guide the preparation of Natural Communities Conservation Program subarea plans by each participating water agency. The combination of the Joint Water Agency SRP and individual SAPs would serve as a multiple species Habitat Conservation Plan under Section 10(a)(1)(B) of the Federal ESA.

The Service and the California Department of Fish and Game may issue take authorization permits for individual SAPs with conditions or modifications. The proposed SRP would consist of several key components including an implementation process and structure, preserve management guidelines, and a covered species list. A total of 80 species are proposed for coverage under the SRP. The proposed SRP would strive to anticipate and cover the effects on biological resources of all currently foreseeable actions of the participating water agencies over the next 75 years. The proposed SRP would address the following groups of foreseeable projects and covered actions: facilities operation and maintenance, planned or conceptual projects, and potential future projects.

The proposed planning area encompasses approximately 8,600 acres (13.5 square miles) of land in northern, eastern, and southern San Diego County cumulatively owned by the participating water agencies. These lands are located in the unincorporated County area, and in the cities of Santee, El Cajon, La Mesa, and Chula Vista. In general, ownerships consist of land used directly for water production, collection, storage, treatment, and distribution as well as easements used primarily for water and wastewater distribution pipelines. These facilities consist of open water reservoirs, water tanks, water, reclaimed water, and wastewater treatment plants, pump stations, pipelines, and access roads. In addition, the agencies also have maintenance trails and roadways, maintenance yards, and sedimentation ponds. In some situations, watershed protection lands provide recreational facilities, including camp grounds, golf courses, boat docks and ramps, fishing piers, hiking trails, and interpretive signage. These lands are operated in cooperation with other agencies such as the County and City of San Diego.

Components of the proposed conservation program are now under consideration by the Service and the Applicants. These components will likely include avoidance and minimization measures, monitoring, adaptive management, and mitigation measures consisting of preservation, restoration, and enhancement of habitat.

Environmental Impact Statement/Environmental Impact Report

The Applicants, the Service, and the California Department of Fish and Game have selected A.D. Hinshaw Associates to prepare the Draft EIS/EIR. The joint document will be prepared in compliance with NEPA and the California Environmental Quality Act (CEQA). Although A.D. Hinshaw Associates will prepare the EIS/EIR, the Service will be responsible for the scope and content of the document for NEPA purposes, and the Sweetwater Authority will be responsible for the scope and content of the EIR for CEQA purposes.

The EIS/EIR will consider the proposed action (i.e., the issuance of a section 10(a)(1)(B) permit under the Federal ESA), and a reasonable range of alternatives. A detailed description of the proposed action and alternatives will be included in the EIS/EIR. It is anticipated that several alternatives will be developed, which may vary by the level of conservation, impacts caused by the proposed activities, permit area, covered species, or a combination of these factors. Additionally, a No Action alternative will be considered. Under the No Action alternative, the Service would not issue a section 10(a)(1)(B) permit.

The EIS/EIR will also identify potentially significant impacts on biological resources, recreation, and other environmental issues that could occur directly or indirectly with implementation of the proposed action and alternatives. For all potentially significant impacts, the EIS/EIR will identify mitigation measures where feasible to reduce these impacts to a level below significance.

Environmental review of the EIS/EIR will be conducted in accordance with the requirements of NEPA (42 U.S.C. 4321 et seq.), its implementing regulations (40 CFR 1500-1508), other applicable regulations, and Service procedures for compliance with those regulations. This notice is being furnished in accordance with 40 CFR 1501.7 of NEPA to obtain suggestions and information from other agencies and the public on the scope of issues and alternatives to be addressed in the EIS/EIR. The primary purpose of the scoping process is to identify important issues raised by the public, related to the proposed action. Written comments from interested parties are invited to ensure that the full range of issues related to the proposed action is identified. While written comments are encouraged, we will accept both written and oral comments at the public meeting. In addition, you may submit written comments by mail or facsimile transmission (see ADDRESSES). All comments received, including names and addresses, will become part of the official administrative record, and may be made available to the public.

Dated: January 31, 2005.
Ken McDermond,
Deputy Manager, California/Nevada Operations Office, Sacramento, California.

[FR Doc. 05-2141 Filed 2-3-05; 8:45 am]

BILLING CODE 4310-55-P